DEPARTMENT OF ENERGY

Federal Energy Regulatory Commission

Combined Notice of Filings

Take notice that the Commission has received the following Natural Gas Pipeline Rate and Refund Report filings:

Filings Instituting Proceedings

Docket Numbers: RP16-831-000.

Applicants: Alliance Pipeline L.P.

Description: Section 4(d) Rate Filing: Daily Service Apr 9-30 2016 to be effective 4/9/2016.

Filed Date: 4/11/16.

Accession Number: 20160411-5095.

Comments Due: 5 p.m. ET 4/25/16.

Docket Numbers: RP16-832-000.

Applicants: Alliance Pipeline L.P.

Description: Compliance filing NAESB 3.0 Compliance Filing to be effective 4/1/2016.

Filed Date: 4/11/16.

Accession Number: 20160411-5096.

Comments Due: 5 p.m. ET 4/25/16.

Docket Numbers: RP16-833-000.

Applicants: Alliance Pipeline L.P.

Description: Section4(d) Rate Filing: Correct Sheet No. 18 to be effective 2/1/2016.

Filed Date: 4/11/16.

Accession Number: 20160411-5128.

Comments Due: 5 p.m. ET 4/25/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-412-001.

Applicants: Golden Triangle Storage, Inc.

Description: Compliance filing GTS. Compliance Filing Pursuant to Order in Dkt. No. RP16-412-000 to be effective 4/1/2016.

Filed Date: 4/11/16.

Accession Number: 20160411-5245.

Comments Due: 5 p.m. ET 4/25/16.

Docket Numbers: RP16-476-001.

Applicants: Northern Natural Gas Company.

Description: Compliance filing 20160411. Compliance Filing to be effective 4/1/2016.

Filed Date: 4/11/16.

Accession Number: 20160411-5179.

Comments Due: 5 p.m. ET 4/25/16.

Docket Numbers: RP16-509-001.

Applicants: Texas Eastern Transmission, LP.

Description: Compliance filing Texas Eastern RP16-509. Compliance Filing to be effective 4/1/2016.

Filed Date: 4/11/16.

Accession Number: 20160411-5088.

Comments Due: 5 p.m. ET 4/25/16.

Docket Numbers: RP16-513-001.

Applicants: Steckman Ridge, LP.

Description: Compliance filing Steckman Ridge RP16-513. Compliance Filing to be effective 4/1/2016.

Filed Date: 4/11/16.

Accession Number: 20160411-5089.

Comments Due: 5 p.m. ET 4/25/16.

Docket Numbers: RP16-514-001.

Applicants: Big Sandy Pipeline, LLC.

Description: Compliance filing Big Sandy RP16-514. Compliance Filing to be effective 4/1/2016.

Filed Date: 4/11/16.

Accession Number: 20160411-5090.

Comments Due: 5 p.m. ET 4/25/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2016.
Nathaniel J. Davis, Sr.,
Deputy Secretary.

[FR Doc. 2016-08925 Filed 4-18-16; 8:45 am]

BILLING CODE 6717-01-P